DEPARTMENT OF THE INTERIOR

Bureau of Land Management

[LLWYP0700.L16100000.DP0000.LXSS041K0000]

Notice of Availability of the Proposed Resource Management Plan and Final Environmental Impact Statement for the Buffalo Resource Management Plan Revision, Buffalo Field Office, Wyoming

AGENCY: Bureau of Land Management, Interior.

ACTION: Notice of Availability.

SUMMARY: In accordance with the National Environmental Policy Act of 1969 (NEPA), as amended, and the Federal Land Policy and Management Act of 1976 (FLPMA), as amended, the Bureau of Land Management (BLM) has prepared a Proposed Resource Management Plan (RMP)/Final Environmental Impact Statement (EIS) for the Buffalo Field Office planning area and by this notice is announcing its availability.

DATES: The BLM planning regulations state that any person who meets the conditions as described in the regulations may protest the BLM's Proposed RMP/Final EIS. A person who meets the conditions and files a protest must file the protest within 30 days of the date that the Environmental Protection Agency publishes its notice of availability in the Federal Register.

ADDRESSES: Copies of the Buffalo Proposed RMP/Final EIS have been sent to affected Federal, State, and local government agencies, tribal governments, and to other stakeholders and members of the public. Copies of the Proposed RMP/Final EIS are available for public inspection at the following locations:

• The BLM, Wyoming State Office, 5353 Yellowstone Road, Cheyenne, WY 82003

• The BLM, High Plains District Office, 2987 Prospector Drive, Casper, WY 82604

• The BLM, Buffalo Field Office, 1425 Fort Street, Buffalo, WY 82834

Interested persons may also review the Proposed RMP/Final EIS on the Internet at www.blm.gov/wy/st/en/programs/Planning/rmps/buffalo.html.

All protests must be in writing and mailed to one of the following addresses:

Regular Mail: BLM Director (210), Attention: Protest Coordinator, P.O. Box 71383, Washington, DC 20024-1383.

Overnight Delivery: BLM Director (210), Attention: Protest Coordinator, 20 M Street SE., Room 2134LM, Washington, DC 20003.

FOR FURTHER INFORMATION CONTACT: Thomas Bills, Buffalo RMP Team Leader; The BLM Buffalo Field Office, 1425 Fort Street, Buffalo, WY 82834, by telephone 307-684-1133, or by email tbills@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The planning area includes lands within the BLM Buffalo Field Office's administrative boundaries, including all of Campbell, Johnson, and Sheridan counties in Wyoming. The planning area includes all lands, regardless of jurisdiction, totaling approximately 7.35 million acres; however, the BLM will only make decisions on lands that fall under the BLM's jurisdiction. Lands within the Planning Area under the BLM's jurisdiction make up the Decision Area. The Decision Area consists of BLM-administered surface, totaling approximately 782,000 acres, and Federal mineral estate, totaling approximately 4.8 million acres. The revised RMP will replace the 1985 Buffalo RMP as amended. The Draft RMP/EIS was made available for public review for a 90-day comment period on June 28, 2013. The Draft RMP/EIS included a series of management actions, within four management alternatives, designed to address management challenges and issues raised during scoping. These included, but were not limited to, energy development (coal, oil and gas, renewable energy, and uranium), wildlife habitat management, including that of the Greater Sage-Grouse, livestock grazing, air quality, special management areas including Areas of Critical Environmental Concern (ACEC), and travel management. In accordance with 43 CFR 1610.7-2(b), the Notice of Availability for the Draft RMP/EIS announced a concurrent public comment period on proposed ACECs.

Comments on the Draft RMP/Draft EIS were considered and incorporated as appropriate into the Proposed RMP/Final EIS, which analyzes four alternatives:

A. Alternative A: (No Action): Continues existing management;

B. Alternative B: Emphasizes conservation of natural and cultural resources while providing for compatible development and use;

C. Alternative C: Emphasizes resource development and use while protecting natural and cultural resources; and

D. Alternative D (Proposed): Provides development opportunities and conserve sensitive resources.

As modified, Alternative D has been identified as the Proposed Buffalo RMP in the Proposed RMP/Final EIS. The Proposed RMP would provide comprehensive, long-range decisions for the use and management of resources in the planning area administered by the BLM and focus on the principles of multiple use and sustained yield. Alternative D generally allows resource use if the activity can be conducted in a manner that conserves physical, biological, and heritage and visual resources. Alternative D allocates land as Special Recreation Management Areas (seven) and ACECs (two) and emphasizes moderate constraints on resource uses to reduce impacts to resource values.

Under Alternative D, the BLM manages the suitable segment of the Middle Fork Powder River to protect and/or enhance its free-flowing condition, outstandingly remarkable values, and tentative classification until such time that Congress designates the river or releases the river for other uses. If released by Congress for other uses, the river segment would be managed to retain its free-flowing condition and identified outstandingly remarkable values. Similarly, this alternative manages wilderness study areas to protect wilderness characteristics until such time that Congress designates the areas as wilderness or releases them for other uses. If released by Congress for other uses, the wilderness study areas would be managed to emphasize healthy ecosystems, opportunities for solitude, and primitive recreation. Additionally, Alternative D would apply a controlled surface use (CSU) stipulation to any mineral lease within 500 feet of riparian/wetland systems and aquatic habitats.

The Proposed Plan, Alternative D of the Final EIS, includes ACEC designation for the following areas:

• Pumpkin Buttes (1,733 acres). Value: Cultural resources. Proposed management would prohibit surface-disturbing activities not compatible with the area's values including a No Surface Occupancy stipulation for new fluid mineral leases; recommending withdrawal from locatable mineral entry; excluding rights-of-way (ROWs); and closing the area to motorized vehicles.

• Welch Ranch (1,116 acres). Values: visual resources, wildlife resources, and presence of a natural hazard. Proposed management would prohibit all surface-disturbing activities not compatible with the area's values including closing the area to all forms of mineral leasing and development, including solid minerals; recommending withdrawal from locatable mineral entry and excluding ROWs. Travel is limited to administrative use on designated routes.

The Proposed RMP does not adopt the following ACECs: Burnt Hollow, Cantontment Reno, Dry Creek/Petrified Tree, Fortification Creek, Hole in the Wall, and Sagebrush Ecosystem.

The Buffalo Proposed RMP/Final EIS is one of a total of 15 separate EISs that make up the BLM and Forest Service National Greater Sage-Grouse Planning Strategy. Greater-Sage Grouse habitat within the planning area consists of:

• Priority Habitat Management Area (PHMA)—Areas identified as having the highest conservation value for maintaining sustainable greater sage-grouse populations; include breeding, late brood-rearing, and winter concentration areas.

• General Habitat Management Area (GHMA)—Areas of seasonal or year-round habitat outside of PHMA.

Alternative D supports management of greater sage-grouse seasonal habitats and maintaining habitat connectivity to achieve population objectives. Alternative D would limit or eliminate new surface disturbance in PHMA, while minimizing disturbance in GHMA. Alternative D is also consistent with guidelines provided in the Governor's Sage-Grouse Implementation Team's Core Population Area strategy and the Governor's Executive Order (WY EO 2011-05).

The BLM and Forest Service, via the Western Association of Fish and Wildlife Agencies (WAFWA) Management Zone Greater Sage-Grouse Conservation Team, will develop a Regional Mitigation Strategy to guide the application of the mitigation hierarchy to address impacts within that Zone. The Regional Mitigation Strategy should consider any State-level greater sage-grouse mitigation guidance that is consistent with the requirements. The Regional Mitigation Strategy will be developed in a transparent manner, based on the best science available and standardized metrics.

Instructions for filing a protest with the Director of the BLM regarding the Proposed RMP/Final EIS may be found in the “Dear Reader” Letter of the Buffalo Proposed RMP/Final EIS and at 43 CFR 1610.5-2. All protests must be in writing and mailed to the appropriate address, as set forth in the ADDRESSES section above. Emailed protests will not be accepted as valid protests unless the protesting party also provides the original letter by either regular or overnight mail postmarked by the close of the protest period. Under these conditions, the BLM will consider the emailed protest as an advance copy and it will receive full consideration. If you wish to provide the BLM with such advance notification, please direct emails to protest@blm.gov.

Before including your address, phone number, email address, or other personal identifying information in your protest, you should be aware that your entire protest—including your personal identifying information—may be made publicly available at any time. While you may ask us in your protest to withhold your personal identifying information from public review, we cannot guarantee that we will be able to do so.

Authority: 40 CFR 1506.6, 40 CFR 1506.10, 43 CFR 1610.2, 43 CFR 1610.5

Mary Jo Rugwell,
Acting State Director, Wyoming.

[FR Doc. 2015-12998 Filed 5-28-15; 8:45 am]

BILLING CODE 4310-22-P